DEPARTMENT OF THE TREASURY

Submission for OMB Review; Comment Request

December 27, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 5, 2001 to be assured of consideration.

Internal Revenue Service (IRS)

OMB Number: 1545-1452.

Regulation Project Number: FI-43-94 Final.

Type of Review: Extension.

Title: Regulations Under Section 1258 of the Internal Revenue Code of 1986; Netting Rule for Certain Conversion Transactions.

Description: Section 1258 recharacterizes capital gains from conversion transactions as ordinary income to the extent of the time value element. This regulation provides that certain gains and losses may be netted for purposes of determining the amount of gain recharacterized.

Respondents: Business or other for-profit, Not-for-profit institutions.

Estimated Number of Recordkeepers: 50,000.

Estimated Burden Hours Per Recordkeeper: 6 minutes.

Estimated Total Recordkeeping Burden: 5,000 hours.

OMB Number: 1545-1706.

Revenue Procedure Number: Revenue Procedure 2000-42.

Type of Review: Extension.

Title: Section 1503(d) Closing Agreement Requests.

Description: Revenue Procedure 2000-42 informs taxpayers of the information they must submit to request a closing agreement under Reg. § 1.1503-2(g)(2)(iv)(B)(2)(I) to prevent the recapture of dual consolidated losses (DCLs) upon the occurrence of certain triggering events.

Respondents: Business or other for-profit.

Estimated Number of Respondents: 20.

Estimated Burden Hours Per Respondent: 100 hours.

Frequency of Response: On occasion.

Estimated Total Reporting Burden: 2,000 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 01-149 Filed 1-3-01; 8:45 am]

BILLING CODE 4830-01-P